NATIONAL COUNCIL ON DISABILITY

Sunshine Act Meetings

TIME AND DATE: The Members of the National Council on Disability (NCD) will hold a quarterly business meeting on Monday, July 25, 2022, 12 p.m.-4 p.m., Eastern Daylight Time (EDT).

PLACE: This meeting will occur via Zoom videoconference. Registration is not required. Interested parties are encouraged to join the meeting in an attendee status by Zoom Desktop Client, Mobile App, or Telephone to dial-in. Updated information is available on NCD's event page at https://ncd.gov/events/2022/upcoming-council-meeting. To join the Zoom webinar, please use the following URL: https://us06web.zoom.us/j/89005709606?pwd=TXBSc1Q5QlZPODQ1T09IQm1qeW5YUT09 or enter Webinar ID: 890 0570 9606 in the Zoom app. The Passcode is: 886525. To join the Council Meeting by telephone, dial one of the preferred numbers listed. The following numbers are (for higher quality, dial a number based on your current location): (669) 900-6833; (408) 638-0968; (312) 626-6799; (346) 248-7799; (253) 215-8782; (646) 876-9923; or (301) 715-8592. You will be prompted to enter the meeting ID 890 0570 9606 and passcode 886525. International numbers are also available: https://us06web.zoom.us/u/kU5ELNoTI.

In the event of audio disruption or failure, attendees can follow the meeting by accessing the Communication Access Realtime Translation (CART) link provided. CART is text-only translation that occurs real time during the meeting and is not an exact transcript.

MATTERS TO BE CONSIDERED: Following welcome remarks and introductions, the Chairman and Executive Committee will provide reports; followed by an Administration, Finance, and Operations (AFO) Team update; a Policy Team update; a discussion on proposed additions to the NCD Health Equity Framework; a panel on the U.S. Supreme Court's Cummings decision with Q&A; public comment period on the Cummings decision; annual ethics training for the Council Members and staff; legislative and public affairs updates; and any old or new business, before adjourning.

AGENDA: The times provided below are approximations for when each agenda item is anticipated to be discussed (all times Eastern Daylight Time):

Monday, July 25, 2022

12-12:05 p.m.—Welcome and Call to Order

12:05-12:15 p.m.—Chairman's Report

12:15-12:30 p.m.—Executive Committee Report

12:30-12:35 p.m.—Administration, Finance and Operations (AFO) Team Update

12:35-1:15 p.m.—Policy Report, Employment Program Inventory Report Out

1:15-1:45 p.m.—Health Equity Framework Proposed Additions

1:45-2:30 p.m.—Cummings panel, Q&A

2:30-3 p.m.—Public Comment (Cummings prompt)

3:00-3:50 p.m.—Annual Ethics Training

3:50-4 p.m.—Legislative Affairs and Outreach (LAO) Team Update

3:55-4 p.m.—Old Business/New Business

4 p.m.-Adjourn

PUBLIC COMMENT: Your participation during the public comment period provides an opportunity for us to hear from you—individuals, businesses, providers, educators, parents and advocates. Your comments are important in bringing to the Council's attention issues and priorities of the disability community.

For the July 25 Council meeting, NCD will designate its half-hour of public comment exclusively for community feedback on the recent U.S. Supreme Court decision Cummings v. Premier Rehab Keller, P.L.L.C. In April 2022, the U.S. Supreme Court issued a decision in Cummings v. Premier Rehab Keller, P.L.L.C., holding that emotional distress damages are not recoverable in a private action to enforce either the Rehabilitation Act or the Affordable Care Act. NCD seeks public comment on the impact of this holding on people with disabilities who seek redress for discrimination under these Federal statutes. In particular, NCD invites comments on the following or related topics:

1. What was the importance of emotional distress damages under these statutes prior to the Cummings decision?

2. What remedy/remedies remain available, under these statutes, in a private action alleging disability discrimination after Cummings, and what role can state civil or human rights laws play in providing an equivalent remedy?

3. What is the overall impact on civil rights protections for people with disabilities as a result of this decision?

Because of the virtual setting, there will be a hybrid option for submitting public comment. The Council is soliciting public comment by email or via video or audio over Zoom. Emailed public comment submissions will be reviewed during the meeting and delivered to members of the Council at its conclusion. You can also present public comment during the session by clicking the “Hand Raise” button in Zoom and waiting to be called on. If you plan to present over Zoom, please provide advance notice. To provide comments or notice to present public comment, please send an email to PublicComment@ncd.gov with the subject line “Public Comment” and your name, organization, state, and topic of comment included in the body of your email. Submission should be received no later than July 24, 5 p.m. EDT to ensure inclusion.

CONTACT PERSON FOR MORE INFORMATION: Nicholas Sabula, Public Affairs Specialist, NCD, 1331 F Street NW, Suite 850, Washington, DC 20004; 202-272-2004 (V), or nsabula@ncd.gov.

ACCOMMODATIONS: An ASL interpreter will be on-camera during the entire meeting, and CART has been arranged for this meeting and will be embedded into the Zoom platform as well as available via streamtext link. The web link to access CART (in English) is: https://www.streamtext.net/player?event=NCD.

If you require additional accommodations, please notify Anthony Simpson by sending an email to asimpson.cntr@ncd.gov as soon as possible and no later than 24 hours prior to the meeting.

Due to last-minute confirmations or cancellations, NCD may substitute items without advance public notice.

Dated: July 6, 2022.
Sharon M. Lisa Grubb,
Director of Administration, Finance and Operations.

[FR Doc. 2022-14703 Filed 7-6-22; 4:15 pm]

BILLING CODE 8421-02-P